FEDERAL COMMUNICATIONS COMMISSION

47 CFR Part 73

[DA 04-3173; MB Docket No. 04-146; RM-10871]

Radio Broadcasting Services; Fort Rucker, Ozark and Slocomb, AL

AGENCY: Federal Communications Commission.

ACTION: Final rule.

SUMMARY: In response to petition for rule making filed by Styles Media Group, LLC and Styles Broadcasting of Dothan, Inc. this document substitutes Channel 263C3 for Channel 263A at Fort Rucker, Alabama, reallots Channel 263C3 to Slocomb, Alabama, and modifies the Station WXUS license to specify operation on Channel 263C3 at Slocomb. In order to replace the loss of the sole local service at Fort Rucker, this document also reallots Channel 280C3 from Ozark, Alabama, to Fort Rucker and modifies the Station WJRL license to specify Fort Rucker as the community of license. See 68 FR 25873, May 10, 2004. The reference coordinates for the Channel 263C3 allotment at Slocomb, Alabama, are 31-06-36 and 85-35-40. The reference coordinates for the Channel 280C3 allotment at Fort Rucker, Alabama, are 31-26-33 and 85-32-21. With this action, the proceeding is terminated.

DATES: Effective November 22, 2004.

FOR FURTHER INFORMATION CONTACT: Robert Hayne, Media Bureau (202) 418-2177.

SUPPLEMENTARY INFORMATION: This is a synopsis of the Report and Order in MB Docket No. 04-146 adopted October 6, 2004, and released October 8, 2004. The full text of this decision is available for inspection and copying during normal business hours in the FCC Reference Information Center at Portals II, CY-A257, 445 12th Street, SW., Washington, DC. The complete text of this decision may also be purchased from the Commission's copy contractor, Best Copy and Printing, Inc., 445 12th Street, SW., Room CY-B402, Washington, DC 20554, telephone 1-800-378-3160 or http://www.BCPIWEB.com. The Commission will send a copy of this Report and Order in a report to be sent to Congress and the General Accounting Office pursuant to the Congressional Review Act, see 5 U.S.C. 801(a)(1)(A).

List of Subjects in 47 CFR Part 73

Radio, Radio Broadcasting.

Part 73 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Alabama, is amended by removing Channel 263A and by adding Channel 280C3 at Fort Rucker, by removing Channel 280C3 at Ozark and adding Slocomb, Channel 263C3.

Federal Communications Commission.
John A. Karousos,
Assistant Chief, Audio Division, Media Bureau.

[FR Doc. 04-23834 Filed 10-22-04; 8:45 am]

BILLING CODE 6712-01-P